DEPARTMENT OF HEALTH AND HUMAN SERVICES

Centers for Disease Control and Prevention

[30-Day-16-16FG]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

Workplace Health In America—New—National Center for Chronic Disease Prevention and Health Promotion (NCCDPHP), Centers for Disease Control and Prevention (CDC).

Background and Brief Description

CDC has developed the Workplace Health in America survey program to describe the current state of U.S. workplace health promotion and protection programs and practices in employers of all sizes, industries and regions. To date, there has not been a systematic and ongoing effort to document the evidenced-based and best practice strategies and interventions that comprise a comprehensive workplace health program from a nationally representative sample of employers. National worksite health promotion experts, employers, and content experts from the CDC advised on the survey content. Items from existing, validated surveys were used whenever possible. The survey contains yes/no, multiple choice and a small number of open-ended items.

The Workplace Health in America survey is designed to collect information about: Basic organizational characteristics; employer-sponsored health insurance; health risk assessments; staffing and other resources devoted to employee health and safety programming; incentives; work-life policies and benefits; availability of health screenings and disease management programs; occupational safety and health programs. The survey items also cover the presence of evidence-based and other health promotion programs, policies and supports related to physical activity; nutrition; weight; tobacco; excess alcohol use and drug abuse; lactation and prenatal support; musculoskeletal disorders, arthritis and back pain; stress; and sleep.

The information that is collected is intended to build an infrastructure supporting ongoing surveillance to evaluate national workplace health priorities (e.g., Healthy People), monitor trends, and address emerging issues; provide free and accessible benchmarking data for employers and other stakeholders in workplace health promotion and protection; provide a better understanding of employer practices to inform the development of tools and resources to support the design, implementation, and evaluation of employer-based workplace health programs; and advance workplace health promotion and protection research.

To achieve these aims, CDC has developed an infrastructure for this initial effort that can be expanded for future iterations of data collection. CDC has designed a process to select a nationally representative sample of worksites representing employers in all size categories, industry sectors, and CDC regions. The data collection platform was developed to collect information primarily by online survey or telephone assisted interview, and can be easily modified to accommodate additional survey modules. CDC has also created a dissemination plan to ensure the data and results can be used by employers and other stakeholders beyond the research community. Planned dissemination products include webinars to employer groups, an online dashboard for employers to benchmark their programs against other employers with comparable characteristics, and brief reports tailored to employers of different sizes.

OMB approval is requested for two years. CDC estimates that a total 8,085 employers will complete the Workplace Health in America survey. Participation is voluntary and there are no costs to respondents other than their time. The total estimated annualized burden hours are 5,616.

Estimated Annualized Burden Hours
Type of respondents | Form name | Number of respondents | Number of responses per respondent | Average burden per response (in hours)
Wellness/HR representative | Screening and Recruiting call | 11,684 | 1 | 15/60
| Workplace Health in America Survey | 4,043 | 1 | 40/60

Leroy A. Richardson,
Chief, Information Collection Review Office, Office of Scientific Integrity, Office of the Associate Director for Science, Office of the Director, Centers for Disease Control and Prevention.

[FR Doc. 2016-04014 Filed 2-24-16; 8:45 am]

BILLING CODE 4163-18-P